DEPARTMENT OF TRANSPORTATION

Federal Aviation Administration

Notice of Intent To Rule on a Land Release Request for Change in Use From Aeronautical to Non-Aeronautical at Stafford Regional Airport, Stafford, VA

AGENCY: Federal Aviation Administration (FAA) DOT.

ACTION: Notice of request for a change in use of on-airport property.

SUMMARY: The FAA proposes to rule and invites public comment on Stafford Regional Airport Authority's request to change 0.886 acres of federally obligated airport property at Stafford Regional Airport, Stafford, VA from aeronautical to non-aeronautical use. This acreage was originally purchased with federal financial assistance through the Airport Improvement Program. The proposed use of land after the release will be compatible with the airport and will not interfere with the airport or its operation.

DATES: Comments must be received on or before June 6, 2022.

FOR FURTHER INFORMATION CONTACT: Comments on this application may be mailed or delivered to the following address:

James L. Stover, Airport Director, Stafford Regional Airport, 95 Aviation Way, Fredericksburg, VA 22406, (540) 658-1212

and at the FAA Washington Airports District Office:

Matthew J. Thys, Manager, Washington Airports District Office, 13873 Park Center Road, Suite 490S, Herndon, VA 20171, (703) 487-3980

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by grant agreements. The following is a brief overview of the request.

Stafford Regional Airport Authority has submitted a land release request seeking FAA approval for the change in use of approximately 0.886 acres of federally obligated airport property from aeronautical to non-aeronautical use. The property is situated on the southeast side of Aviation Way. Due to this location, the subject area is unable to be utilized for aviation purposes because the airport operations area is located to the west of Aviation Way. Thus, the subject area is inaccessible to aircraft.

The 0.886 acres of land to be released was originally purchased as part of a 60.000-acre parcel and 73.860-acre parcel with federal financial assistance through the AIP program under Grant Agreement 3-51-0069-06. As foreseen at the time of the execution of this Grant Agreement, the only portions of the 60.000-acre parcel and 73.860-acre parcel that were required for aeronautical use are the portions of the parcels to the west of Aviation Way. Subsequent to the implementation of the proposed change in use, monies received by the airport from this property are considered airport revenue, and will be used in accordance with 49 U.S.C. 47107(b) and the FAA's Policy and Procedures Concerning the Use of Airport Revenue published in the Federal Register on February 16, 1999. The proposed use of the property will not interfere with the airport or its operation.

Issued in Herndon, Virginia.
Matthew J. Thys,
Manager, Washington Airports District Office.

[FR Doc. 2022-09614 Filed 5-4-22; 8:45 am]

BILLING CODE 4910-13-P